DEPARTMENT OF THE INTERIOR

National Park Service

Notice of Intent To Prepare a General Management Plan and Environmental Impact Statement for Buffalo National River, Arkansas

AGENCY: National Park Service, Interior.

ACTION: Notice of Intent to Prepare a General Management Plan and Environmental Impact Statement for Buffalo National River, Arkansas.

SUMMARY: Under the provisions of the National Environmental Policy Act of 1969 (42 U.S.C. 4321 et seq.), the National Park Service (NPS) is preparing an environmental impact statement (EIS) for the General Management Plan (GMP) for Buffalo National River, Arkansas. The GMP/EIS will establish the overall direction for Buffalo National River by setting broad management goals for managing the area over the next 15 to 20 years.

DATES: Participation in the planning process will be encouraged and facilitated by various means, including newsletters and public meetings. The NPS will conduct public scoping meetings to explain the planning process and to solicit opinion about issues to address in the GMP/EIS. Notification of the specific dates, times, and locations of all such meetings will be announced in the local media, in NPS newsletters, on the park's Web site at http://www.nps.gov/buff, and on the NPS's Planning, Environment and Public Comment (PEPC) Web site at http://parkplanning.nps.gov.

ADDRESSES: Additionally, anyone who wishes to comment on any issues associated with the GMP may submit comments by any one of several methods. One may mail or hand-deliver comments to Superintendent, Buffalo National River, 402 North Walnut, Harrison, Arkansas, 72601-1173. Comments also may be provided electronically on the PEPC Web site at the address above. Additionally, information will be available for public review and comment from the Office of the Superintendent at the above address. Requests to be added to the project mailing list should be sent by mail to Superintendent—GMP, Buffalo National River, 402 North Walnut, Harrison, Arkansas, 72601-1173 or by e-mail to BUFF_Superintendent@nps.gov (please put “GMP” in the subject line).

Before including an address, telephone number, e-mail address, or other personal identifying information in the comments, you should be aware that your entire comment (including your personal identifying information) may be made publicly available at any time. While you can ask us in your comment to withhold your personal identifying information from public review, we cannot guarantee that we will be able to do so. We will make all submissions from organizations or businesses, or from individuals identifying themselves as representatives or officials of organizations or businesses, available for public inspection in their entirety.

FOR FURTHER INFORMATION CONTACT: Superintendent Kevin Cheri, Buffalo National River, 402 North Walnut, Harrison, Arkansas, 72601-1173, telephone 870-365-2700.

SUPPLEMENTARY INFORMATION: Buffalo National River, located in northwestern Arkansas, was established as America's first National River in 1972 to conserve and interpret an area containing unique scenic and scientific features, and to preserve as a free-flowing stream an important segment of the Buffalo River in Arkansas. Buffalo National River is currently operating under a 1977 Master Plan, which is seriously outdated, not only because of additions to the infrastructure, but because of current issues that were not addressed previously and that require new management direction. Buffalo National River also needs to identify major program areas and provide a context for activities and program planning.

The GMP/EIS will prescribe the resource conditions and visitor experiences that are to be achieved and maintained, based on such factors as Buffalo National River's purpose, significance, special mandates, the body of laws and policies directing its management, resource analysis, and the range of public expectations and concerns. The GMP/EIS will outline the kinds of resource management activities, visitor activities, and development that would be appropriate at Buffalo National River in the future.

A range of reasonable management alternatives will be developed through this planning process and will include, at minimum, a No-Action Alternative and a Preferred Alternative. Major issues the document will address include protection and management of cultural and natural resources, management of expired use and occupancy tracts, effects of adjacent land uses on Buffalo National River's resources, increased visitation and changing use patterns, commercial services, and future recreational opportunities.

To facilitate sound planning and environmental analysis, the NPS intends to gather information necessary for the preparation of the EIS and obtain suggestions and information from other Agencies and the public on the scope of issues to be addressed in the EIS. Comments and participation in this scoping process are invited. All interested persons, organizations, agencies, and Tribes are encouraged to submit comments and suggestions on issues and concerns that should be addressed in the GMP/EIS and the range of appropriate alternatives that should be examined.

Dated: February 4, 2009.
David N. Given,
Acting Regional Director, Midwest Region.

[FR Doc. E9-5144 Filed 3-10-09; 8:45 am]

BILLING CODE 4310-70-P